FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 012098.

Title: Mitsui CSAV/“K” Line Mexico/U.S. Atlantic Space Charter Agreement.

Parties: Compania Sud American de Vapores S.A. and Kawasaki Kisen Kaisha, Ltd.

Filing Parties: John P. Meade, Esq.; Vice-President; K-Line America, Inc.; 6009 Bethlehem Road; Preston, MD 21655.

Synopsis: The agreement authorizes K-Line to charter space to CSAV in the trade from Mexico to the U.S. Atlantic Coast.

Agreement No.: 012099.

Title: Slot Exchange Agreement between YMUK/UASC.

Parties: United Arab Shipping Co. S.A G. and Yang Ming (UK), Ltd.

Filing Parties: Amy Cano, Esq.; Nixon Peabody LLP; 555 West Fifth Street, 46th Floor; Los Angeles, CA 90013.

Synopsis: The agreement authorizes the parties to sell or exchange slots to one another in the trades between U.S. ports and ports in the Mediterranean, Middle East, and Indian subcontinent, as well as between Asia and the Middle East.

Agreement No.: 201103-009.

Title: Memorandum Agreement of the Pacific Maritime Association of December 14, 1983 Concerning Assessments to Pay ILWU-PMA Employee Benefit Costs, As Amended, Through June 3, 2010.

Parties: Pacific Maritime Association and International Longshore and Warehouse Union.

Filing Party: David F. Smith, Esq.; Sher & Blackwell LLP; 1850 M Street, NW.; Suite 1850; Washington, DC 20036.

Synopsis: The amendment revises how the man-hour base assessment will be calculated.

By Order of the Federal Maritime Commission.
Dated: June 11, 2010.
Rachel E. Dickon,
Assistant Secretary.

[FR Doc. 2010-14533 Filed 6-15-10; 8:45 am]

BILLING CODE 6730-01-P